DEPARTMENT OF DEFENSE

Office of the Secretary

National Security Education Board Meeting

AGENCY: National Defense University, Department of Defense.

ACTION: Notice of open meeting.

SUMMARY: Pursuant to Public Law 92-463, notice is hereby given of a forthcoming meeting of the National Security Education Board. The purpose of the meeting is to review and make recommendations to the Secretary concerning requirements established by the David L. Boren National Security Education Act, Title VIII of Public Law 120-183, as amended.

DATES: June 8, 2006.

ADDRESSES: The National Transportation Safety Board, Conference Center, 429 L'Enfant Plaza, SW., Washington, DC 20594.

FOR FURTHER INFORMATION CONTACT: Dr. Edmond J. Collier, Deputy Director, National Security Education Program, 1101 Wilson Boulevard, Suite 1210, Rosslyn, Virginia 22209-2248; (703) 696-1991. Electronic mail address: colliere@ndu.edu.

SUPPLEMENTARY INFORMATION: The Board meeting is open to the Public. This notice is being published less than 15 days due to an administrative oversight.

Dated: May 23, 2006.
C.R. Choate,
Alternate OSD Federal Register Liaison Officer, DoD.

[FR Doc. 06-4899 Filed 5-25-06; 8:45 am]

BILLING CODE 5001-06-M